FEDERAL ELECTION COMMISSION

Sunshine Act Notice

Agency: Federal Election Commission.

Date and Time: Tuesday, October 4, 2011 at 10 a.m.

Place: 999 E. Street, NW., Washington, DC.

Status: This meeting will be closed to the public.

Items To Be Discussed: Compliance matters pursuant to 2 U.S.C. 437g.

Audits conducted pursuant to 2 U.S.C. 437g, 438(b), and Title 26, U.S.C.

Matters concerning participation in civil actions or proceedings or arbitration.

Internal personnel rules and procedures or matters affecting a particular employee.

CONTACT FOR INFORMATION: Judith Ingram, Press Officer, Telephone: (202) 694-1220.

Shawn Woodhead Werth,
Secretary and Clerk of the Commission.

[FR Doc. 2011-25311 Filed 9-27-11; 4:15 pm]

BILLING CODE 6715-01-P